ADMINISTRATIVE COMMITTEE OF THE FEDERAL REGISTER

1 CFR Chapter I

[ACFR-2014-0001]

RIN 3095-AB84

Revision of Regulations

AGENCY: Administrative Committee of the Federal Register.

ACTION: Proposed rule; extension of comment period.

SUMMARY: On October 28, 2014, the Administrative Committee of the Federal Register (ACFR) published a Notice of Proposed Rulemaking and requested comments through December 29, 2014. The ACFR received a formal request to extend the comment period. The ACFR is, therefore, extending the comment period until January 28, 2015.

DATES: The comment period for the proposed rule published on October 28, 2014 (79 FR 64133), has been extended. The ACFR will accept comments until January 28, 2015.

ADDRESSES: You may submit comments, identified using the subject line of this document, by any of the following methods:

• Federal eRulemaking Portal: http://www.regulations.gov. Follow the instructions for submitting comments.

• Email: Fedreg.legal@nara.gov. Include the subject line of this document in the subject line of the message.

• Mail: The Office of the Federal Register (F), The National Archives and Records Administration, 8601 Adelphi Road, College Park, MD 20740-6001.

• Hand Delivery/Courier: Office of the Federal Register, 800 North Capitol Street NW., Suite 700, Washington, DC 20002.

Docket materials are available at the Office of the Federal Register, 800 North Capitol Street NW., Suite 700, Washington, DC 20002, 202-741-6030. Please contact the persons listed in the FOR FURTHER INFORMATION CONTACT section to schedule your inspection of docket materials. The Office of the Federal Register's official hours of business are Monday through Friday, 8:45 a.m. to 5:15 p.m., excluding Federal holidays.

FOR FURTHER INFORMATION CONTACT: Miriam Vincent, Acting Director of Legal Affairs and Policy, Office of the Federal Register, at Fedreg.legal@nara.gov, or 202-741-6030.

SUPPLEMENTARY INFORMATION: On October 28, 2014 (79 FR 64133), the Administrative Committee of the Federal Register (ACFR) published a Notice of Proposed Rulemaking and requested comments through December 29, 2014. The ACFR proposed to update its regulations for the Federal Register system to clarify certain policies and to reflect current procedures and technological advances. The proposal would also revise the regulatory text to make it more readable and consistent with plain language principles.

The ACFR received a formal request to extend the comment period on the petition for an additional 90 days, making the total time to comment 150 days. After considering the request, the ACFR decided to extend the comment period an additional 30 days, to January 28, 2015. This extension gives commenters additional time to consider the proposal and submit comments on its merits.

By Order of the Committee.
Amy P. Bunk,
Acting Secretary, Administrative Committee of the Federal Register.

[FR Doc. 2014-29415 Filed 12-15-14; 8:45 am]

BILLING CODE 1505-02-P